DEPARTMENT OF COMMERCE

International Trade Administration

[A-570-863]

Honey From the People's Republic of China: Extension of Time Limit for the Preliminary Results for New Shipper Review

AGENCY: Import Administration, International Trade Administration, Department of Commerce.

DATES: Effective Date: July 7, 2010.

FOR FURTHER INFORMATION CONTACT: Josh Startup, AD/CVD Operations, Office 9, Import Administration, International Trade Administration, U.S. Department of Commerce, 14th Street and Constitution Avenue, NW., Washington, DC 20230; telephone: (202) 482-5260.

Background

On February 4, 2010, the Department of Commerce (“Department”) initiated this new shipper review of the antidumping duty order on honey from the People's Republic of China (“PRC”), covering the period December 1, 2008, through November 30, 2009. See Honey from the People's Republic of China: Initiation of New Shipper Antidumping Duty Reviews, 75 FR 5764 (February 4, 2010) (“Initiation”). The preliminary results of this new shipper review were due no later than July 28, 2010.

On February 12, 2010, the Department exercised its discretion to toll the deadlines for all Import Administration cases by seven calendar days due to the February 5, through February 12, 2010, Federal Government closure. See “Memorandum to the Record from Ronald Lorentzen, DAS for Import Administration, regarding `Tolling of Administrative Deadlines as a Result of the Government Closure During the Recent Snowstorm,'” dated February 12, 2010. As a result, the preliminary results of this new shipper review are currently due on August 4, 2010.

Extension of Time Limit for the Preliminary Results

Section 751(a)(2)(B)(iv) of the Tariff Act of 1930, as amended (“the Act”), and 19 CFR 351.214(i)(1) require the Department to issue the preliminary results of a new shipper review within 180 days after the date on which the new shipper review was initiated and final results of a review within 90 days after the date on which the preliminary results were issued. The Department may, however, extend the time period for completion of the preliminary results of a new shipper review to 300 days if it determines that the case is extraordinarily complicated. See section 751(a)(2)(B)(iv) of the Act and 19 CFR 351.214(i)(2).

The Department has determined that the review is extraordinarily complicated as the Department must gather additional publicly available information, issue additional supplemental questionnaires, and allow time for parties to comment on those responses. Based on the timing of the case and the additional information that must be gathered, the preliminary results of this new shipper review cannot be completed within the 180 day time limit. Accordingly, the Department is extending the time limit for the completion of the preliminary results of this new shipper review by 90 days. The preliminary results will now be due no later than November 2, 2010 in accordance with section 751(a)(2)(B)(iv) of the Act and 19 CFR 351.214(i)(2). The final results will, in turn, be due 90 days after the date of issuance of the preliminary results, unless extended.

This notice is published pursuant to sections 751(a)(2)(B)(iv) and 777(i)(1) of the Act.

Dated: June 30, 2010.
John M. Andersen,
Acting Deputy Assistant Secretary for Antidumping and Countervailing Duty Operations.

[FR Doc. 2010-16512 Filed 7-6-10; 8:45 am]

BILLING CODE 3510-DS-P